CORPORATION FOR NATIONAL AND COMMUNITY SERVICE

Privacy Act of 1974; Matching Program

AGENCY: Corporation for National and Community Service.

ACTION: Notice of computer matching program between the Corporation for National and Community Service and the Social Security Administration.

SUMMARY: In accordance with the Privacy Act of 1974, as amended by the Computer Matching and Privacy Protection Act of 1988, OMB Final Guidance Interpreting the Provisions of the Computer Matching and Privacy Protection Act of 1988, and the Serve America Act, the Corporation for National and Community Service (CNCS) is issuing public notice of its renewal of its computer matching agreement with the Social Security Administration (SSA).

DATES: You may submit comments until September 28, 2018.

ADDRESSES: You may submit comments identified by the title of the information collection activity, by any of the following methods.

(1) By mail send to: Corporation for National and Community Service, Attention: Amy Borgstrom, Associate Director for Policy, 250 E Street SW, Washington, DC 20525.

(2) By email to: aborgstrom@cns.gov.

(3) Individuals who use a telecommunications device for the deaf (TTY-TDD) may call (202) 606-3472 between 8:30 a.m. and 5:00 p.m. Eastern Time, Monday through Friday.

FOR FURTHER INFORMATION CONTACT: Amy Borgstrom, Associate Director for Policy, (202) 606-6930 or aborgstrom@cns.gov.

SUPPLEMENTARY INFORMATION: The Privacy Act of 1974 (5 U.S.C. 552a), as amended by the Computer Matching and Privacy Protection Act of 1988 (Pub. L. 100-503), regulates the use of computer matching agreements by federal agencies when records in a system of records are matched with other federal, state, or local government records. Among other things, it requires federal agencies involved in computer matching agreements to publish a notice in the Federal Register regarding the establishment of a computer matching agreement. The SSA will conduct a computer match with CNCS to verify Social Security numbers (SSN) and provide the citizenship status, as recorded in SSA records, of individuals applying to serve in approved national service positions and those designated to receive national service education awards under the National and Community Service Act of 1990 (NCSA). 42 U.S.C. 12501, et seq.

Inclusive Dates of the Matching Program

This renewed matching program will continue for 18 months after the effective date and may be extended for an additional 12 months thereafter, if the conditions specified in 5 U.S.C. 552a(o)(2)(A) and OMB Circular A-108 (December 23, 2016) have been met. In order to renew this agreement, both CNCS and SSA must certify to their respective Data Integrity Boards that: (1) The matching program will be conducted without change; and (2) the matching program has been conducted in compliance with the original agreement.

Procedure

CNCS will provide SSA with a data file including social security number, first and last names, and date of birth. SSA will conduct a match on the identifying information. If the match does not return a result verifying the individual's social security number and citizenship status, CNCS will notify the individual or the grant recipient program that selected the individual. The affected individual will have an opportunity to contest the accuracy of the information provided by SSA in accordance with the requirements of 5 U.S.C. 552a(p) and applicable OMB guidelines.

The individual will have at least 30 days from the date of the notice to submit evidence demonstrating the accuracy of the social security number and/or proof that the individual is a citizen, national, or lawful permanent resident alien of the United States. CNCS will consider any timely submitted evidence to determine whether the record establishes the accuracy of the social security number and/or the United States citizenship, nationality or lawful permanent residency of the individual. If the individual fails to timely submit such evidence, CNCS will presume that the information provided by SSA is accurate. The notice will so advise the individual.

Additional Notice

Applicants and transferees will be informed that information provided on the application is subject to verification through a computer matching program. The application package will contain a privacy certification notice that the applicant must sign authorizing CNCS to verify the information provided. Individuals receiving a transferred Education Award will be informed at the time identifying information is requested from the transferee, that their data will be verified through this computer matching agreement. The form requesting this data will contain a privacy certification notice that the applicant must sign authorizing CNCS to verify the information provided.

Participating Agencies: Participants in this computer matching program are the Social Security Administration (source agency) and the Corporation for National and Community Service (recipient agency).

Authority for Conducting the Matching Program: The authority for creating this matching program is pursuant to section 1711 of the Serve America Act of 2009 (Pub. L. 111-13, April 21, 2009). The legal authority for the disclosure of SSA data under this agreement is pursuant to section 1106 of the Social Security Act (42 U.S.C. 1306(b)), 5 U.S.C. 552a(b)(3) of the Privacy Act, and associated regulations and guidance.

CNCS's legal authority to enter into this agreement is in section 146(b)(3) of the National and Community Service Act (NCSA) (42 U.S.C. 12602(a)), concerning an individual's eligibility to receive a Segal AmeriCorps Education Award from the National Service Trust upon successful completion of a term of service in an approved national service position. The authority is further articulated in section 1711 of the Serve America Act (Pub. L. 111-13), that directs CNCS to enter into a data matching agreement to verify statements made by an individual declaring that such individual is in compliance with section 146(b)(3) of the NCSA by comparing information provided by the individual with information relevant to such a declaration in the possession of another federal agency.

Purpose(s): The computer matching agreement between CNCS and SSA enables CNCS to verify the social security numbers of most applicants for approved national service positions, and verify statements made by those applicants regarding their citizenship status according to the records that SSA has on file. SSA is not the custodian of U.S. citizenship records.

Categories of Individuals: Each individual who applies to serve in an approved national service position, and will receive an Education Award pursuant to 42 U.S.C. 142(a) including positions in AmeriCorps State and National, AmeriCorps VISTA, AmeriCorps NCCC, Serve America Fellows, as well as individuals who are the recipient of a transferred Education Awards are subject to the matching program. At the time of application, CNCS must certify that the individual meets the citizenship eligibility criteria to serve in the position and/or receive an Education Award, i.e., is a citizen, national, or lawful permanent resident alien of the United States. Furthermore, these members must provide an accurate social security number.

Categories of Records: The Master Files of Social Security Number Holders and SSN Applications SSA/OEEAS 60-0058, system of records last published at 74 FR 62866 (December 1, 2009) (Enumeration System) maintains records about each individual who has applied for and obtained an SSN. SSA uses information from the Enumeration System to assign SSNs. The information CNCS provides from the AmeriCorps Member Individual Account (Corporation 8) system of records will be matched against this system of records and verification results will be disclosed under the applicable routine use.

Dated: August 13, 2018.
Edward Davis,
Acting Chief Information Officer.

[FR Doc. 2018-18684 Filed 8-28-18; 8:45 am]

BILLING CODE 6050-28-P